DEPARTMENT OF COMMERCE

International Trade Administration

[A-337-806]

Notice of Amended Final Determination of Sales at Less Than Fair Value: IQF Red Raspberries from Chile.

AGENCY: Import Administration, International Trade Administration, Department of Commerce.

ACTION: Notice of Amended Final Determination of Sales at Less Than Fair Value.

EFFECTIVE DATE: June 12, 2002.

FOR FURTHER INFORMATION CONTACT: Cole Kyle or Blanche Ziv, (202) 482-1503 or (202) 482-4207, respectively; Import Administration, International Trade Administration, U.S. Department of Commerce, 14th Street and Constitution Avenue, NW, Washington, DC 20230.

SUPPLEMENTARY INFORMATION:

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“the Department”) regulations are to 19 CFR Part 351 (April 2001).

Scope of Investigation

The products covered by this investigation are imports of IQF whole or broken red raspberries from Chile, with or without the addition of sugar or syrup, regardless of variety, grade, size or horticulture method (e.g., organic or not), the size of the container in which packed, or the method of packing. The scope of the investigation excludes fresh red raspberries and block frozen red raspberries (i.e., puree, straight pack, juice stock, and juice concentrate).

The merchandise subject to this investigation is classifiable under section 0811.20.2020 of the Harmonized Tariff Schedule of the United States (“HTSUS”). Although the HTSUS subheading is provided for convenience and customs purposes, the written description of the merchandise under investigation is dispositive.

Amended Final Determination

On May 15, 2002, the Department determined that individually quick frozen (“IQF”) red raspberries from Chile are being sold in the United States at less than fair value (“LTFV”), as provided in section 735(a) of the Act. See Notice of Final Determination of Sales at Less Than Fair Value: IQF Red Raspberries from Chile, 67 FR 35790 (May 21, 2002). On May 28, 2002, we received a ministerial error allegation, timely filed pursuant to 19 CFR 351.224(c)(2), from the IQF Red Raspberries Fair Trade Committee and the IQF Committee of the Washington Red Raspberry Commission (“the petitioners”) regarding the Department's final margin calculations. The petitioners requested that we correct the error and publish a notice of amended final determination in the Federal Register, pursuant to 19 CFR 351.224(e). The petitioners' submission alleges that the Department failed to correct the margin program for Fruticola Olmue (“Olmue”) pursuant to the Department's findings at verification¹. Specifically, the petitioners allege that the Department inadvertently applied the incorrect indirect selling expense factor in calculating Olmue's third country indirect selling expense in the margin calculations. Olmue did not submit comments on the ministerial error allegation.

¹ No ministerial errors allegations were filed with respect to the other two respondents in this case, Comercial Fruticola (“Comfrut”) and Exportadora Frucol (“Frucol”).

In accordance with section 735(e) of the Act, we have determined that a ministerial error in the calculation of Olmue's indirect selling expenses for U.S. and third country sales was made in our final margin calculations. For a detailed discussion of the above-cited ministerial error allegation and the Department's analysis, see Memorandum to Richard W. Moreland, “Allegation of Ministerial Error; Final Determination in the Antidumping Duty Investigation of IQF Red Raspberries from Chile” dated May 29, 2002, which is on file in the Central Records Unit (“CRU”), room B-099 of the main Department building.

Therefore, in accordance with 19 CFR 351.224(e), we are amending the final determination of the antidumping duty investigation of IQF red raspberries from Chile to correct this ministerial error. Accordingly, we have revised Olmue's margin. We also revised the “All Others” rate. The revised final weighted-average dumping margins are as follows:

Exporter/Manfacturer | Original Weighted-average margin percentage | Revised Weighted-average margin percentage
Comercial Fruticola | 0.50 | 0.50
Exportadora Frucol | 0.00 | 0.00
Fruticola Olmue | 5.98 | 6.33
All Others² | 5.98 | 6.33
² Pursuant to section 735(c)(5)(A) of the Act, we have excluded from the calculation of the all-others rate margins which are zero or de minimis.

Continuation of Suspension of Liquidation

In accordance with section 735(c)(1)(B) of the Act, we are directing the U.S. Customs Service (“Customs”) to continue to suspend liquidation of all imports of IQF red raspberries from Chile, except for subject merchandise produced by Exportadora Frucol and Comercial Fruticola (which have zero and de minimis weighted-average margins, respectively). Customs shall require a cash deposit or the posting of a bond equal to the weighted-average amount by which the normal value exceeds the export price as indicated in the chart above. These suspension of liquidation instructions will remain in effect until further notice.

ITC Notification

In accordance with section 735(d) of the Tariff Act, we have notified the International Trade Commission of our amended final determination.

This determination is issued and published in accordance with sections 735(d) and 777(i)(1) of the Act.

Dated: June 6, 2002
Faryar Shirzad,
Assistant Secretary for Import Administration.

[FR Doc. 02-14832 Filed 6-11-02; 8:45 am]

BILLING CODE 3510-DS-S